DEPARTMENT OF LABOR

Employment and Training Administration

[TA-W-42,113]

The Wackenhut Corp., San Manuel, AZ; Notice of Revised Determination

In the matter of Former Employees of Wackenhut Corporation v. U.S. Secretary of Labor, No. 02-00758, the Department is issuing a revised determination to certify workers of the subject firm eligible to apply for trade adjustment assistance (TAA).

Workers of The Wackenhut Corporation, San Manuel, Arizona, were working on-site at a copper cathode production facility operated by BHP Copper, Inc. in San Manuel, Arizona. The Wackenhut Corporation workers were denied eligibility to apply for TAA because they provided security services for an unaffiliated firm. All workers of BHP Copper, Inc., San Manuel, Arizona, were certified eligible to apply for TAA.

The Department determined that The Wackenhut Corporation was contracted by BHP Copper, Inc. to provide security services at BHP in San Manuel, Arizona and other BHP locations. During the contract period the leased or contract workers providing a service (Wackenhut) remained under the control by the firm producing the article (BHP Copper, Inc.). In accordance with a reinterpretation of the Trade Act term workers of a firm and the joint employer relationship that existed between Wackenhut and BHP Copper, Inc., the Department has determined that because all workers of BHP Copper, Inc. in San Manuel, Arizona were certified eligible to apply for TAA, the leased or contract employees of The Wackenhut Corporation working at that location are also adversely affected by increased imports of copper cathodes and the closure of the BHP facility.

Conclusion

After careful review on reconsideration, I determine that increases of imports of articles like or directly competitive with copper cathodes produced by BHP Copper Inc., San Manuel, Arizona, contributed importantly to the total or partial separation of workers and to the decline in sales or production at that firm or subdivision.

In accordance with the provisions of the Act, I make the following certification:

Workers employed by The Wackenhut Corporation, working at BHP Copper Inc., San Manuel, Arizona, who became totally or partially separated from employment on or after September 4, 2001, through two years from the date of this determination, are eligible to apply for adjustment assistance under section 223 of the Trade Act of 1974.”

Signed in Washington, DC, this 4th day of May, 2004.
Linda G. Poole,
Certifying Officer, Division of Trade Adjustment Assistance.

[FR Doc. 04-10866 Filed 5-12-04; 8:45 am]

BILLING CODE 4510-30-P